DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 21, 2002.

Interested persons are invited to submit written comments regarding the subject matter of the investigations to the Director, Division of Trade Adjustment Assistance, at the address shown below, not later than June 21, 2002.

The petitions filed in this case are available for inspection at the Office of the Director, Division of Trade Adjustment Assistance, Employment and Training Administration, U.S. Department of Labor, Room C-5311, 200 Constitution Avenue, NW., Washington, DC 20210.

Signed at Washington, DC this 22nd day of April, 2002.
Edward A. Tomchick,
Director, Division of Trade Adjustment Assistance.

Appendix
[Petitions Instituted On 04/22/2002]
TA-W | Subject firm (petitioners) | Location | Date of petition | Product(s)
41,348 | Sappi Fine Paper (Co.) | Skowhegan, ME | 03/18/2002 | Light Coated-Groundwood Free paper.
41,349 | Fayette Cotton Mill, Inc (Comp) | Fayette, AL | 03/11/2002 | Men's Ladies' & Children's Underwear.
41,350 | TracTech, Inc. (Wkrs) | Warren, MI | 03/07/2002 | Differentials—Trucks.
41,351 | Quitman Mfg. & Barwick (Co.) | Quitman, GA | 03/06/2002 | Childrens Fleece & Active Wear.
41,352 | Dana Corporation (Wkrs) | Richmond, IN | 03/22/2002 | Cylinder Liners.
41,353 | ITT Industries (Wkrs) | Eden Prairie, MN | 03/20/2002 | Switches, Controls and Panels.
41,354 | Gulfstream Aerospace (Wkrs) | Oklahoma City, OK | 03/10/2002 | Aircraft subassembly and detailed parts.
41,355 | Fourply (Co.) | Grants Pass, OR | 03/08/2002 | Plywood (4*8 Sheets).
41,356 | Aspen Trailer, Inc. (Wkrs) | Litchfield, MN | 03/19/2002 | Heavy Haul Trailers.
41,357 | Stream International (Wkrs) | Beaverton, OR | 03/20/2002 | Phone Production Work.
41,358 | Owens Brigam Medical (Co.) | Morganton, NC | 03/26/2002 | Medical Respiratory Circuits.
41,359 | L. Lawrence Products (Co.) | Huntingdon Vall, PA | 03/25/2002 | Eyeglass and Hearing Aid Products.
41,360 | Kay Fay (UNITE) | Nesqueshoning, PA | 03/28/2002 | Calvin Klein Stone Washed Jeans.
41,361 | Vesuvius USA (Wkrs) | South Webster, OH | 04/04/2002 | Alumino Silicate Refractories.
41,362 | Vesuvius USA (Wkrs) | Bettsville, OH | 02/06/2002 | Refractories for Line Vessels.
41,363 | Regal Beloit (Wkrs) | Mitchell, IN | 04/03/2002 | Cutting Tools.
41,364 | Amloid (Co.) | Saddle Book, NJ | 03/14/2002 | Toys.
41,365 | Germantown USA (Co.) | West Chester, PA | 03/21/2002 | Dry Blending for Dairy Industries.
41,366 | Starkey (Wkrs) | Glencoe, MN | 10/19/2002 | Hearing Aids.
41,367 | Schlumberger Limited (Wkrs) | Sugarland, TX | 01/04/2002 | Wireline Logging.
41,368 | Komtek (USWA) | Worcester, MA | 03/28/2002 | Casting and Forge Parts.Medical Implants.
41,369 | Norton (Wkrs) | Worcester, MA | 03/21/2002 | Grinding Wheels.
41,370 | Boeing North American (Wkrs) | El Pase, TX | 03/29/2002 | Aircrafts and Components.
41,471 | Franklin Brass Mfg. Co (IBT) | Rancho Domingue, CA | 03/26/2002 | Bathroom Accessories.
41,372 | XESystems, Inc. (Wkrs) | East Rochester, NY | 03/28/2002 | Development, Marketing Printers & Copier.
41,373 | Springs Window Fashions (Co.) | Montgomery, PA | 04/12/2002 | Curtains.
41,374 | Curtis PMC (Co.) | Livermore, CA | 03/28/2002 | Electronics and Controllers.
41,375 | Wolverine (Wkrs) | Fitchburg, MA | 04/22/2002 | Paper Mill Equipment.
41,376 | Techalloy Company (Co.) | Florence, MA | 04/04/2002 | Steel and Nikel Alloy Wire.
41,377 | Levi Strauss and Co. (Co.) | San Francisco, CA | 04/11/2002 | 5-Pocker Jeans and Khakis.
41,378 | Tellabs Operations (Co.) | Round Rock, TX | 03/28/2002 | Optical Networking Equipment.
41,379 | Williamson Dickie (Wkrs) | McAllen, TX | 04/09/2002 | Work Pants.
41,380 | American Tissue Mill (Wkrs) | Neenah, WI | 03/19/2002 | Facial and Bath Tissue, Paper Nap. & Tow.
41,381 | Redwing Shoe (Wkrs) | Potosi, MO | 04/03/2002 | Sneakers.
41,382 | Pendleton Woolen Mills (Co.) | Portland, OR | 04/09/2002 | Upholstry Fabrics, Blankets & Apparel.
41,383 | Jabil Circuit (Co.) | Auburn Hills, MI | 03/27/2002 | Circuit Board Assemblies.
41,384 | Chicago Mold and Engineer (Co.) | St. Charles, IL | 03/26/2002 | Plastic Injection Molds.
41,385 | Peck Manufacturing (Co.) | Warrenton, NC | 03/12/2002 | Garments.
41,386 | Ericsson, Inc., (Wkrs) | Lynchburg, VA | 01/10/2002 | Cellular Phones.
41,387 | Contract Embroidery (Wkrs) | El Paso, TX | 03/22/2002 | Embroidery.
41,388 | Fujitsu Network (Wkrs) | Richsradson, TX | 03/25/2002 | Engineering & Telecommunication Phones.
41,389 | Triton Services (Wkrs) | Easton, PA | 03/27/2002 | Software.
41,390 | Mitsubishi Silicon (Wkrs) | Salem, OR | 03/16/2002 | Silicon Wafers.
41,391 | Victor Forstnann (Wkrs) | ublin, GA | 03/22/2002 | Woolen & Worsted Fabrics.
41,392 | White Mountain Stitching (Co.) | Litleton, NH | 03/21/2002 | Leather Wallets and Handbags.
41,393 | TVS—Transylvaia (Co.) | Brevard, NC | 03/01/2002 | Medical X-Ray Film.
41,394 | Watkins Motor Lines (Wkrs) | Charlotte, NC | 03/01/2002 | Trucking Company.
41,395 | H.I. Seagroatt (Co.) | Berlin, NY | 03/18/2002 | Flowers/Roses.
41,396 | Bell Sponging (UNITE) | Allentown, PA | 03/28/2002 | Cloth.
41,397 | American Fashion (UNITE) | Chula Vista, CA | 03/26/2002 | Men's Suites, Slacks & Sports Coats.
41,398 | Acordis Cellulasic Fibers (Wkrs) | Axis, AL | 03/06/2002 | Rayon.
41,399 | BBA Nonwowens (Wkrs) | Lewisburg, PA | 02/25/2002 | Medical Hygiene and Filteration.
41,400 | Howmet Casting of Wichita (Wkrs) | Wichita Falls, TX | 03/01/2002 | Turbine Engine Airfoil Blades.
41,401 | ConAgra Grocery Products (UFCW) | Milton, PA | 01/17/2002 | Foods and Snacks.
41,402 | Instron Sateo Systems (Wkrs) | Grove City, PA | 03/18/2002 | Universal Testing Machines.
41,403 | Tyco Electronics (Wkrs) | Jonestown, PA | 03/14/2002 | Connectors for Various Areas.

[FR Doc. 02-14598 Filed 6-10-02; 8:45 am]

BILLING CODE 4510-30-P